SMALL BUSINESS ADMINISTRATION

Small Business Investment Company License Issuance

AGENCY: U.S. Small Business Administration.

ACTION: Notice of Small Business Investment Company (SBIC) Licenses.

Pursuant to the authority granted to the United States Small Business Administration under section 301(c) of the Small Business Investment Act of 1958, as amended, to grant Small Business Investment Company licenses under the Small Business Investment Company Program, this notice satisfies the requirement effective August 17, 2023 under 13 CFR 107.501(a) to publish in the Federal Register the names of SBICs with date of licensure and Total Intended Leverage Commitments. The following SBICs received SBIC licenses as of the date indicated below:

SBIC fund name | Date of licensure | Leverage tiers ¹
SharpVue Capital Credit Fund III, L.P | 11/25/2024 | 2.00x.
Abacus Financial SBIC Fund I, L.P | 11/24/2024 | 2.00x.
Haven Capital Partners I, L.P | 11/15/2024 | 2.00x.
Petra Growth Fund V, L.P | 11/1/2024 | 2.00x.
Reynolda Equity Partners V, L.P | 11/1/2024 | Non-leveraged.
Frontier Fund I Alpha, L.P | 10/7/2024 | 1.25x.
One Bow River National Defense Fund, L.P | 10/1/2024 | Non-leveraged.
¹ Maximum amount of Leverage expressed as a multiple of Leverageable Capital pursuant to 13 CFR 107.1150. For all SBIC Licensees that submitted a Management Assessment Questionnaire after August 17, 2023, the Notice of SBIC Licenses will include the Total Intended Leverage Commitment at the time of Licensure.

Bailey DeVries,
Associate Administrator, Office of Investment and Innovation, U.S. Small Business Administration.

[FR Doc. 2024-28454 Filed 12-4-24; 8:45 am]

BILLING CODE 8026-09-P